DEPARTMENT OF LABOR

Employment and Training Administration

[TA-W-41, 010]

Dupont Beaumont Works, Beaumont, TX; Notice of Termination of Investigation

Pursuant to section 221 of the Trade Act of 1974, an investigation was initiated on March 11, 2002, in response to a worker petition which was filed by the company on behalf of workers at Dupont Beaumont Works, Beaumont, Texas.

An active investigation covering the petitioning group of workers is already in process (TA-W-40,949). Consequently, further investigation in this case would serve no purpose, and the investigation has been terminated.

Signed in Washington, DC this 18th day of March 2002.
Linda G. Poole,
Certifying Officer, Division of Trade Adjustment Assistance.

[FR Doc. 02-8273 Filed 4-4-02; 8:45 am]

BILLING CODE 4510-30-M